DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. No. 92-463, 86 Stat. 770) requires that public notice of this meeting be announced in the Federal Register.

DATES: Monday, September 27, 2010 1 p.m.-5 p.m. Tuesday, September 28, 2010 8:30 a.m.-4:30 p.m.

ADDRESSES: The Francis Marion Hotel, 387 Kings Street, Charleston, SC 29403.

FOR FURTHER INFORMATION CONTACT: Gerri Flemming, Office of External Affairs, Department of Energy, Savannah River Operations Office, P.O. Box A, Aiken, SC 29802; Phone: (803) 952-7886.

SUPPLEMENTARY INFORMATION: Purpose of the Board: The purpose of the Board is to make recommendations to DOE-EM and site management in the areas of environmental restoration, waste management, and related activities.

Tentative Agenda

Monday, September 27, 2010

1 p.m.—Combined Committee Session.

5 p.m.—Adjourn.

Tuesday, September 28, 2010

8:30 a.m.—Approval of Minutes, Agency Updates.

Public Comment Session.

Chair and Facilitator Updates.

Strategic and Legacy Management Committee Report.

Waste Management Committee Report.

Public Comment Session.

12 p.m.—Lunch Break.

1 p.m.—Facility Disposition and Site Remediation Committee Report.

Nuclear Materials Committee Report.

Administrative Committee Report.

Public Comment Session.

4:30 p.m.—Adjourn.

If needed, time will be allotted after public comments for items added to the agenda and administrative details. A final agenda will be available at the meeting on Monday, September 27, 2010.

Public Participation: The EM SSAB, Savannah River Site, welcomes the attendance of the public at its advisory committee meetings and will make every effort to accommodate persons with physical disabilities or special needs. If you require special accommodations due to a disability, please contact Gerri Flemming at least five days in advance of the meeting at the phone number listed above. Written statements may be filed with the Board either before or after the meeting. Individuals who wish to make oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments. This notice is being published less than 15 days before the date of the meeting due to programmatic issues.

Minutes: Minutes will be available by writing or calling Gerri Flemming at the address or phone number listed above. Minutes will also be available at the following Web site: http://www.srs.gov/general/outreach/srs-cab/srs-cab.html.

Issued at Washington, DC, on September 16, 2010.
Rachel Samuel,
Deputy Committee Management Officer.

[FR Doc. 2010-23560 Filed 9-20-10; 8:45 am]

BILLING CODE 6450-01-P